DEPARTMENT OF HOMELAND SECURITY

Coast Guard

33 CFR Part 165

[COTP Port Arthur 03-002]

RIN 1625-AA00

Safety Zones; Port Neches Riverfest, Neches River, Port Neches, TX

AGENCY: Coast Guard, DHS.

ACTION: Temporary final rule.

SUMMARY: The Coast Guard is establishing temporary safety zones for all waters of the Neches River adjacent to Port Neches Park in Port Neches, TX. These safety zones are necessary to protect spectators and vessels from the potential safety hazards associated with boat races and a fireworks display that are part of the Port Neches Chamber of Commerce Riverfest. Entry into these zones by anyone other than event participants is prohibited, unless specifically authorized by the Captain of the Port, Port Arthur or a designated representative.

DATES: This rule is effective from 1 p.m. on May 10, 2003, until 6 p.m. on May 11, 2003.

ADDRESSES: Documents indicated in this preamble as being available in the docket are part of docket (COTP Port Arthur-03-003) and are available for inspection or copying at Marine Safety Office Port Arthur, 2875 Jimmy Johnson Blvd., Port Arthur, TX 77640 between 8 a.m. and 3:30 p.m., Monday through Friday, except Federal holidays.

FOR FURTHER INFORMATION CONTACT: Lieutenant Junior Grade (LTJG) Bryan Markland, Waterways Management Branch, Marine Safety Office Port Arthur at (409) 723-6500.

SUPPLEMENTARY INFORMATION:

Regulatory Information

We did not publish a notice of proposed rulemaking (NPRM) for this regulation. Under 5 U.S.C. 553(b)(B), the Coast Guard finds good cause exists for not publishing an NPRM. Publishing an NPRM would be contrary to public interest because immediate action is needed to protect vessels and mariners from the hazards associated with this event. The Coast Guard did not receive notice of the Port Neches Riverfest in sufficient time to publish an NPRM.

Background and Purpose

The Port Neches Chamber of Commerce Riverfest will include a fireworks display as well as a series of boat races on the Neches River, adjacent to Port Neches Park, Port Neches, TX. Safety zones are established for those events to ensure the safety of the participants, spectators, and other vessels.

The fireworks safety zone will encompass all waters of the Neches River, shore to shore, adjacent to Port Neches Park between a northern boundary at 30°00′00″ N. and southern boundary at 29°59′42″ N. Those coordinates are based upon (NAD 83). This safety zone will be enforced from 8 p.m. to 10 p.m. on May 10, 2003.

The safety zone for the boat races will encompass all waters of the Neches River, shore to shore, adjacent to Port Neches Park in Port Neches, Texas, between a northern boundary at 30°00′12″ N. and southern boundary at 29°59′36″ N. Those coordinates are based upon (NAD 83). This safety zone will be enforced from 1 p.m. to 6 p.m. on May 10, 2003, and from 8 a.m. to 6 p.m. on May 11, 2003.

Entry into these zones by anyone other than event participants is prohibited, unless authorized by the Captain of the Port Port Arthur or a designated representative.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security.

During the boat races on May 10, 2003, the waterway will be closed for 5 hours between 1 p.m. and 6 p.m. On May 11, 2003, the waterway will be closed for 10 hours. There will be two breaks during the May 11, 2003, boat races. During those breaks, vessel traffic will be allowed to pass through the zone as directed by the Coast Guard patrol commander. The break periods will begin at approximately 11 a.m. and 3 p.m. and each will last about an hour. Notifications of the safety zones and break periods will be made to the marine community by broadcast notices to mariners, through the event sponsors, and by publication in the Federal Register. The impacts on routine navigation are expected to be minimal.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This rule will affect the following entities, some of which may be small entities: the owners and operators of vessels intending to transit the portion of the Neches River adjacent to Port Neches Park, Port Neches, TX, from 1 p.m. to 6 p.m. and 8 p.m. to 10 p.m. on May 10, 2003, and from 8 a.m. to 6 p.m. on May 11, 2003.

This safety zone will not have a significant economic impact on a substantial number of small entities for the following reasons: (1) The safety zone for the fireworks will only be in effect for a short period of time; (2) there will be two breaks during the May 11, 2003, boat races and during those breaks vessel traffic will be allowed to pass through the zone as directed by the Coast Guard patrol commander, and (3) notifications of the safety zones and break periods will be made to the marine community by broadcast notices to mariners and event sponsors.

If you are a small business entity and are significantly affected by this regulation please contact LTJG Bryan Markland, Marine Safety Office Port Arthur, at (409) 723-6500.

Assistance for Small Entities

Under section 213(a) of the Small Business Regulatory Enforcement Fairness Act of 1996 (Public Law 104-121), we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

Arule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it does not have a substantial direct effect on one or more Indian tribes, on the relationship between the Federal government and Indian tribes, or on the distribution of power and responsibilities between the Federal government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Environment

We have analyzed this rule under Commandant Instruction M16475.l, which guides the Coast Guard in complying with the National Environmental Policy Act of 1969 (42 U.S.C. 4321-4370f), and have concluded that there are no factors in this case that would limit the use of a categorical exclusion under section 2.B.2 of the instruction. Therefore, this rule is categorically excluded, under figure 2-1, paragraph (34)(g), of the Instruction, from further environmental documentation.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION ARES AND LIMITED ACCESS AREAS

1. The authority citation for part 165 continues to read as follows:

Authority: 33 U.S.C. 1231; 50 U.S.C. 191; 33 CFR 1.05-1(g), 6.04-1, 6.04-6, and 160.5; Department of Homeland Security Delegation No. 0170.

2. A new temporary § 165.T08-033 is added to read as follows:

§ 165.T08-033 Safety Zones; Port Neches Riverfest, Neches River, Port Neches, TX.

(a) Regulated Areas. The following areas are safety zones:

(1) Fireworks safety zone. All waters of the Neches River, shore to shore, adjacent to Port Neches Park, Port Neches, TX, between a northern boundary at 30°00′00″ N and southern boundary at 29°59′42″ N. Those coordinates are based upon [NAD 83].

(2) Boat race safety zone. All waters of the Neches River, shore to shore, adjacent to Port Neches Park, Port Neches, TX, between a northern boundary at 30°00′12″ N and southern boundary at 29°59′36″ N. Those coordinates are based upon [NAD 83].

(b) Enforcement dates. (1) The fireworks safety zone in paragraph (a)(1) of this section will be enforced from 8 p.m. to 10 p.m. on May 10, 2003.

(2) The boat race safety zone in paragraph (a)(2) of this section will be enforced from 1 p.m. to 6 p.m. on May 10, 2003, and from 8 a.m. to 6 p.m. on May 11, 2003.

(c) Regulations. (1) In accordance with the general regulations in § 165.23 of this part, entry into the safety zones in this section is prohibited unless authorized by the Captain of the Port Port Arthur or a designated representative.

(2) Vessels requiring entry into or passage through a safety zone must request permission from the Captain of the Port Port Arthur or a designated representative. They may be contacted via VHF Channel 16 or by telephone at 409-723-6500.

(3) All persons and vessels shall comply with the instructions of the Captain of the Port Port Arthur and designated on-scene U.S. Coast Guard patrol personnel. On-scene U.S. Coast Guard personnel include commissioned, warrant, and petty officers of the U.S. Coast Guard.

Dated: April 2, 2003.
Eric A. Nicolaus,
Captain, U.S. Coast Guard, Captain of the Port, Port Arthur.

[FR Doc. 03-11603 Filed 5-8-03; 8:45 am]

BILLING CODE 4910-15-P